DEPARTMENT OF AGRICULTURE

Forest Service

Black Hills National Forest Advisory Board Public Meeting Cancellation Notice

AGENCY: Forest Service, USDA.

ACTION: Notice of meeting cancellation.

SUMMARY: The Black Hills National Forest Advisory Board (NFAB) has cancelled its February 16, 2005 meeting because of delays in the Board's re-chartering process. The next scheduled meeting is Wednesday, March 16, 2005, as previously announced, subject to successful renewal of the Board's charter.

FOR FURTHER INFORMATION CONTACT: Frank Carroll, Black Hills National Forest, 25041 North Highway 16, Custer, SD 57730. (605) 673-9200.

Dated: February 2, 2005.
Brad Exton,
Acting Forest Supervisor.

[FR Doc. 05-2377 Filed 2-7-05; 8:45 am]

BILLING CODE 3410-11-M